DEPARTMENT OF HOMELAND SECURITY

[Docket No. DHS-2011-0121]

Homeland Security Academic Advisory Council; Establishment and Meeting

AGENCY: Department of Homeland Security.

ACTION: Committee Management; Notice of Federal Advisory Committee Establishment and Meeting.

SUMMARY: The Secretary of Homeland Security has determined that the establishment of the Homeland Security Academic Advisory Council (HSAAC) is necessary and in the public interest in connection with the performance of duties of the Office of Academic Engagement. This determination follows consultation with the Committee Management Secretariat, General Services Administration. The committee will hold its inaugural meeting on March 20, 2012.

ADDRESSES: If you desire to submit comments on this action, they must be submitted within 30 days after publication of Notice. Comments must be identified by DHS-2011-0121 and may be submitted by one of the following methods:

• Federal eRulemaking Portal: http://www.regulations.gov. Follow the instructions for submitting comments.

• Email: AcademicEngagement@hq.dhs.gov. Include the docket number in the subject line of the message.

• Fax: 202-447-3713.

• Mail: Academic Engagement, MGMT/Office of Academic Engagement/Mailstop 0440, Department of Homeland Security, 245 Murray Lane SW., Washington, DC 20528-0440.

• Instructions: All submissions received must include the words “Department of Homeland Security” and DHS-2011-0121, the docket number for this action. Comments received will be posted without alteration at http://www.regulations.gov including any personal information provided.

• Docket: For access to the docket to read background documents or comments received, go to http://www.regulations.gov.

FOR FURTHER INFORMATION CONTACT: Office of Academic Engagement/Mailstop 0440, Department of Homeland Security, 245 Murray Lane SW., Washington, DC 20528-0440, tel: 202-447-4686 and fax: 202-447-3713.

Name of Committee: Homeland Security Academic Advisory Council (HSAAC).

SUPPLEMENTARY INFORMATION: For the reasons set forth below, the Secretary of Homeland Security has determined that the establishment of the HSAAC is necessary and in the public interest. This determination follows consultation with the Committee Management Secretariat, General Services Administration.

HSAAC is being established in accordance with the provisions of the Federal Advisory Committee Act (FACA) (5 U.S.C. App.). The HSAAC will provide advice and recommendations to the Secretary and senior leadership on matters relating to student and recent graduate recruitment; international students; academic research; campus and community resiliency, security and preparedness; and faculty exchanges.

Balanced Membership Plan: HSAAC is composed of up to 22 members who are appointed by and serve at the pleasure of the Secretary of Homeland Security. The members shall represent institutions of higher education, community colleges, school systems, and/or partnership groups as follows:

a. Up to 13 members representing the following academic institutions or organizations: State colleges and universities, community colleges, government universities, international education, Historically Black Colleges and Universities, Tribal Colleges and Universities, Hispanic Serving Institutions, Minority Serving Institutions, or the DHS Centers of Excellence. These members are appointed to represent their respective academic institution or organization and are not Special Government Employees (SGEs) as defined in Title 18, United States Code, section 202(a). To the extent possible, each of the interests listed shall be represented on the committee.

b. Other such individuals as the Secretary determines to be appropriate. The appropriate membership designation for each member in this category will be determined at the time of appointment by Department ethics officials. Individuals appointed for their expertise would be appointed as SGEs. As a candidate for appointment as an SGE, applicants are required to complete a Confidential Financial Disclosure Report (OGE Form 450). DHS may not release the reports or the information in them to the public except under an order issued by a Federal court or as otherwise provided under the Privacy Act (5 U.S.C. 5523a).

Candidates representing academic institutions or organizations will be at the highest leadership level of their institution—i.e., president, chancellor, or executive director.

For the initial appointments to the HSAAC, approximately one-third of the members shall serve 2-year terms of office, one third shall serve 3-year terms of office, and one-third shall serve 4-year terms of office. Thereafter, members shall serve terms of office of up to three years, with approximately one-third of members' terms of office expiring each year.

The HSAAC expects to meet quarterly, but it may meet more or less frequently, depending on the need. Members may receive per diem and reimbursement of travel expenses for their service to the Federal Government.

Duration: Continuing.

Date of Meeting: The Homeland Security Academic Advisory Council (HSAAC) will meet on March 20, 2012, from 10 a.m. to 4 p.m. in Washington, DC. The meeting will be open to the public. Please note that the meeting may close early if the committee has completed its business.

ADDRESSES: The meeting will be held at the Ronald Reagan International Trade Center, 1300 Pennsylvania Avenue NW., Floor B, Room B1.5-10, Washington, DC 20004. All visitors to the Ronald Reagan International Trade Center must bring a Government-issued photo ID. Please use the main entrance on 14th Street NW.

For information on facilities or services for individuals with disabilities or to request special assistance at the meeting, send an email to AcademicEngagement@hq.dhs.gov or contact Lindsay Burton at 202-447-4686 as soon as possible.

To facilitate public participation, we are inviting public comment on the issues to be considered by the committee as listed in the “Summary” section below. Comments must be submitted in writing no later than Monday, March 12, 2012, and must be identified by DHS-2011-0121 and may be submitted by one of the following methods:

• Federal eRulemaking Portal: http://www.regulations.gov. Follow the instructions for submitting comments.

• Email: AcademicEngagement@hq.dhs.gov. Include the docket number in the subject line of the message.

• Fax: 202-447-3713.

• Mail: Academic Engagement, MGMT/Office of Academic Engagement/Mailstop 0440, Department of Homeland Security, 245 Murray Lane SW., Washington, DC 20528-0440.

Instructions: All submissions received must include the words “Department of Homeland Security” and the docket number for this action. Comments received will be posted without alteration at http://www.regulations.gov, including any personal information provided.

Docket: For access to the docket to read background documents or comments received by the Homeland Security Academic Advisory Council, go to http://www.regulations.gov.

A public comment period will be held during the meeting on March 20, 2012, from 3:30 p.m. to 4 p.m. and speakers are requested to limit their comments to 3 minutes. Please note that the public comment period may end before the time indicated, following the last call for comments. Contact the Office of Academic Engagement as indicated below to register as a speaker.

FOR FURTHER INFORMATION CONTACT: Office of Academic Engagement/Mailstop 0440, Department of Homeland Security, 245 Murray Lane SW., Washington, DC 20528-0440, email: AcademicEngagement@hq.dhs.gov, tel: 202-447-4686 and fax: 202-447-3713.

SUPPLEMENTARY INFORMATION: Notice of this meeting is given under the Federal Advisory Committee Act, 5 U.S.C. App. (Pub. L. 92-463). The HSAAC will provide advice and recommendations to the Secretary and senior leadership on matters relating to student and recent graduate recruitment; international students; academic research; campus and community resiliency, security and preparedness; and faculty exchanges.

Agenda: At this inaugural committee meeting, members will receive an overview of the DHS and the Federal Advisory Committee Act. They will also receive ethics training. The committee will be briefed on its mission and purpose and receive initial taskings. Issues the HSAAC will review and discuss include campus resilience and international students.

Responsible DHS Official: Lauren Kielsmeier, AcademicEngagement@hq.dhs.gov, 202-447-4686.

Lauren Kielsmeier,
Executive Director for Academic Engagement.

[FR Doc. 2012-4897 Filed 2-29-12; 8:45 am]

BILLING CODE 9110-9B-P